DEPARTMENT OF THE TREASURY

Submission for OMB Review; Comment Request

October 1, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 8, 2004 to be assured of consideration.

Internal Revenue Service (IRS).

OMB Number: 1545-1897.

Regulation Project Number: REG-120616-03 NPRM and Temporary.

Type of Review: Extension.

Title: Entry of Taxable Fuel.

Description: The regulation imposes joint and several liability on the importer of record for the tax imposed on the entry of taxable fuel into the United States and revises definition of “enterer”.

Respondents: Business of other for-profit.

Estimated Number of Respondents/Recordkeepers: 224.

Estimated Burden Hours Respondent/Recordkeeper: 15 minutes.

Frequency of response: On occasion.

Estimated Total Reporting/Recordkeeping Burden: 281 hours.

Clearance Officer: Paul H. Finger, (202) 622-4078, Internal Revenue Service, Room 6516, 1111 Constitution Avenue, NW., Washington, DC 20224, (202) 622-4078.

OMB Reviewer: Joseph F. Lackey, Jr., Office of Management and Budget, Room 10235, New Executive Office Building, Washington, DC 20503, (202) 395-7316.

Lois K. Holland,
Treasury PRA Clearance Officer.

[FR Doc. 04-22734 Filed 10-7-04; 8:45 am]

BILLING CODE 4830-01-P